DEPARTMENT OF TRANSPORTATION

Federal Aviation Administration

14 CFR Part 39

[Docket No. FAA-2013-0450; Directorate Identifier 2013-CE-010-AD]

RIN 2120-AA64

Airworthiness Directives; Alexander Schleicher GmbH & Co. Segelflugzeugbau Sailplanes

AGENCY: Federal Aviation Administration (FAA), Department of Transportation (DOT).

ACTION: Notice of proposed rulemaking (NPRM).

SUMMARY: We propose to adopt a new airworthiness directive (AD) for all Alexander Schleicher GmbH & Co. Segelflugzeugbau Models AS-K13, Ka2B, Ka 6, Ka 6 B, Ka 6 BR, Ka 6 C, Ka 6 CR, K7, K8, and K 8 B sailplanes that would supersede an existing AD. This proposed AD results from mandatory continuing airworthiness information (MCAI) originated by an aviation authority of another country to identify and correct an unsafe condition on an aviation product. The MCAI describes the unsafe condition as misalignment of the automatic elevator control connection. We are issuing this proposed AD to require actions to address the unsafe condition on these products.

DATES: We must receive comments on this proposed AD by July 8, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Alexander Schleicher GmbH & Co Segelflugzeugbau, Straße 1 D—36163 Poppenhausen, Germany; phone: ++49 (0) 6658/89-0; fax: ++49 (0) 6658/89-40; email: info@alexander-schleicher.de; Internet: http://www.alexander-schleicher.de/. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2013-0450; Directorate Identifier 2013-CE-010-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On March 5, 1964, we issued AD 64-07-05, Amendment 701 (29 FR 3227, March 11, 1964). That AD required actions intended to address an unsafe condition on some of the products listed above.

Since we issued AD 64-07-05, Amendment 701 (29 FR 3227, March 11, 1964) the European Aviation Safety Agency (EASA), which is the Technical Agent for the Member States of the European Community, has issued a new AD to add additional sailplane models to the applicability and to add additional inspections of the elevator control connection. Alexander Schleicher GmbH & Co. Segelflugzeugbau has also issued revised service information to address the unsafe condition.

The EASA has issued AD No. 2013-0091, dated April 12, 2013 (referred to after this as “the MCAI”), to correct an unsafe condition for the specified products. The MCAI states:

A recent report has been received concerning a problem with the elevator control during take-off of an ASK 13 sailplane. The results of the technical investigation revealed a misalignment in the automatic elevator control connection, presumably caused by an incorrect repair or damage at the tail-plane-area. In addition, similar elevator connection failure during early 1960's which led to the issuance of LBA LTM 4/62. However, LTM, 4/62 did not apply to ASK 13 and ASK 18 sailplanes coming later into production.

This condition, if not detected and corrected, could lead to failure of the automatic elevator control connection, possibly resulting in loss of control of the sailplane.

To address this unsafe condition, Alexander Schleicher GmbH issued a Technical Note (TN) (Ka 6 TN-Nr. 26; K 7 TN-Nr. 24; K 8 TN-Nr. 30; ASK 13 TN-Nr. 19; ASK 18 TN-Nr. 9) providing instructions for elevator control inspection and replacement and EASA issued AD 2012-0246 to require accomplishment of those instructions.

Since that AD was issued, Alexander Schleicher GmbH issued a revision of TN (Ka 6 TN-Nr. 26; K 7 TN-Nr. 24; K 8 TN-Nr. 30; ASK 13 TN-Nr. 19, ASK 18 TN-Nr. 9), dated 08 January 2013 to re-introduce a pushrod support modification for K 7 and K 8 sailplanes, previously required by LBA LTM 4/62, but no longer required by EASA AD 2012-0246, which superseded the LBA LTM.

For the reasons described above, this AD retains the requirements of EASA AD 2012-0246, which is superseded, and additionally requires, for K 7 and K 8 sailplanes, verification of embodiment of pushrod support modification, and depending on finding, pushrod support modification.

You may obtain further information by examining the MCAI in the AD docket.

Relevant Service Information

Alexander Schleicher GmbH & Co. Segelflugzeugbau has issued Technical Note for Ka 2 and Ka 2b—TM-Nr. 13, Ka 6—TM-Nr. 26, K 7—TM-Nr. 24, K 8—TM-Nr. 30, ASK 13—TM-Nr. 19, ASK 18—TM-Nr. 9, Revision 1, dated January 8, 2013. The actions described in this service information are intended to correct the unsafe condition identified in the MCAI.

The service information issued by Alexander Schleicher GmbH & Co. Segelflugzeugbau referenced above contains German to English translation. On the document we received it cites the use of “TM,” which is an abbreviation for Technische Mitteilung. The English translation for Technische Mitteilung is Technical Note. EASA used the English translation in referencing the document from Alexander Schleicher GmbH & Co. Segelflugzeugbau, as stated in the Discussion section above.

For enforceability purposes, we will cite references to the Alexander Schleicher GmbH & Co. Segelflugzeugbau service information as it appears on the document.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 127 products of U.S. registry. We also estimate that it would take about .5 work-hour per product to comply with the new inspection requirements of this proposed AD. The average labor rate is $85 per work-hour.

Based on these figures, we estimate the cost of the initial inspection proposed in this AD on U.S. operators to be $5,397.50, or $42.50 per product.

We have no way of determining the number of repetitive inspections an owner/operator will incur over the life of the sailplane.

In addition, we estimate that any necessary follow-on actions would take about 1 work-hour and require parts costing $119, for a cost of $204 per product. We have no way of determining the number of products that may need these actions.

We also estimate that it will take about 2 work-hours per product to comply with actions retained from AD 64-07-05, Amendment 701 (29 FR 3227, March 11, 1964) for Models Ka2B, Ka 6, Ka 6 B, Ka 6 BR, Ka 6 C, Ka 6 CR, K7, K8, and K 8 B sailplanes in this proposed AD, which affects 112 products of U.S. registry, and may require parts costing $103, for a cost of $273 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 701 (29 FR 3227, March 11, 1964), and adding the following new AD:

Alexander Schleicher GmbH & Co. Segelflugzeugbau: Docket No. FAA-2013-0450; Directorate Identifier 2013-CE-010-AD.

(a) Comments Due Date

We must receive comments by July 8, 2013.

(b) Affected ADs

This AD supersedes AD 64-07-05, Amendment 701 (29 FR 3227; March 11, 1964).

(c) Applicability

This AD applies to Alexander Schleicher GmbH & Co. Segelflugzeugbau Models AS -K13, Ka2B, Ka 6, Ka 6 B, Ka 6 BR, Ka 6 C, Ka 6 CR, K7, K8, and K 8 B sailplanes, all serial numbers, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as misalignment of the automatic elevator control connection. The European Aviation Safety Agency (EASA) has issued a new AD to add additional sailplane models to the applicability and to add additional inspections of the elevator control connection. Alexander Schleicher GmbH & Co. Segelflugzeugbau has also issued revised service information to address the unsafe condition. We are issuing this AD to prevent failure of the automatic elevator control connection, which could result in loss of control.

(f) Actions and Compliance Retained From AD 64-07-05, Amendment 701 (29 FR 3227, March 1, 1964)

Unless already done, do the following actions specified in paragraphs (f)(1), (f)(2), and (f)(3) of this AD.

(1) For Models Ka2B, Ka 6, Ka 6 B, Ka 6 BR, Ka 6 C, Ka 6 CR, K7, K8, and K 8 B: Unless already done, within the next 10 hours time-in-service (TIS) after April 13, 1964 (the effective date retained from AD 64-07-05, Amendment 701 (29 FR 3227, March 1, 1964)), inspect the automatic elevator control rod for conformity following Alexander Schleicher Automatic Elevator Connection document, dated December 5, 1961.

(2) For Models Ka2B, Ka 6, Ka 6 B, Ka 6 BR, Ka 6 C, Ka 6 CR, K7, K8, and K 8 B: If any discrepancy is found during the inspection required in paragraph (f)(1) of this AD, before further flight, make any necessary repairs or modification following Civil Aeronautics Manual (CAM) 18, dated February 11, 1936, which can be found at the following Web site: http://ntl1.specialcollection.net/scripts/ws.dll?websearch&site=dot_cams.

(3) For Models Ka2B, K7, K8 and K 8 B: Unless already done, within the next 10 hours TIS after April 13, 1964 (the effective date retained from AD 64-07-05, Amendment 701 (29 FR 3227, March 1, 1964)), install an additional push pull rod support. For Models Ka2B, follow Alexander Schleicher Modification No. 7, dated July 4, 1962. For Models K7, follow Alexander Schleicher Modification No. 8, dated November 23, 1961. For Models K8, follow Alexander Schleicher Modification No. 7, dated November 24, 1961.

(g) New Actions and Compliance

Unless already done, do the following actions specified in paragraphs (g)(1) and (g)(2) of this AD.

(1) For all models: Within 90 days after the effective date of this AD and repetitively thereafter at intervals not to exceed 12 months, inspect the elevator control rod in the tailplane following the Action section in Alexander Schleicher Technical Note for Ka 2 and Ka 2b-TM-Nr. 13, Ka 6-TM-Nr. 26, K 7-TM-Nr. 24, K 8-TM-Nr. 30, ASK 13-TM-Nr. 19, ASK 18-TM-Nr. 9, Revision 1, dated January 8, 2013.

(2) For all models: During any inspection required in paragraph (g)(1) of this AD, if any bend and/or misaligned elevator control connection is detected, before further flight after the inspection, replace the elevator control connection with a serviceable part. Do the replacement following the Action section in Alexander Schleicher Technical Note for Ka 2 and Ka 2b-TM-Nr. 13, Ka 6-TM-Nr. 26, K 7-TM-Nr. 24, K 8-TM-Nr. 30, ASK 13-TM-Nr. 19, ASK 18-TM-Nr. 9, Revision 1, dated January 8, 2013.

(h) Credit for Actions Done Following Previous Service Information

This AD provides credit for the initial inspection required in paragraph (g)(1) of this AD and any necessary replacement required in paragraph (g)(2) of this AD if already done before the effective date of this AD following the Action sections in Alexander Schleicher Technical Note for Ka 2 and Ka 2b-TM-Nr. 13, Ka 6-TM-Nr. 26, K 7-TM-Nr. 24, K 8-TM-Nr. 30, ASK 13-TM-Nr. 19, ASK 18-TM-Nr. 9, dated August 30, 2012.

(i) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any sailplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI European Aviation Safety Agency (EASA) AD No. 2013-0091, dated April 12, 2013; Alexander Schleicher Automatic Elevator Connection document, dated December 5, 1961; Civil Aeronautics Manual (CAM) 18, dated February 11, 1936; Alexander Schleicher Modification No. 7 Glider Ka 2 and Ka 2B, L-140 and L-203, dated July 4, 1962; Alexander Schleicher Modification No. 8 Glider K 7 L-211 (US 7G3), dated November 23, 1961; Alexander Schleicher Modification No. 7 Glider K 8 L-216 (US 7G4), dated November 24, 1961; Alexander Schleicher Technische Mitteilungt für Technical Note for Ka 2 and Ka 2b-TM-Nr. 13, Ka 6-TM-Nr. 26, K 7-TM-Nr. 24, K 8-TM-Nr. 30, ASK 13-TM-Nr. 19, ASK 18-TM-Nr. 9, dated August 30, 2012; and Alexander Schleicher Technische Mitteilungt für Technical Note for Ka 2 and Ka 2b-TM-Nr. 13, Ka 6-TM-Nr. 26, K 7-TM-Nr. 24, K 8-TM-Nr. 30, ASK 13-TM-Nr. 19, ASK 18-TM-Nr. 9, Revision 1, dated January 8, 2013, for related information. For service information related to this AD, contact Alexander Schleicher GmbH & Co Segelflugzeugbau, Straße 1 D-36163 Poppenhausen, Germany; phone: ++49 (0) 6658/89-0, fax: +49 (0) 6658/89-40, email: info@alexander-schleicher.de; Internet: http://www.alexander-schleicher.de. You may review copies of the referenced service information at the FAA, Small Airplane Directorate, 901 Locust, Kansas City, Missouri 64106. For information on the availability of this material at the FAA, call (816) 329-4148.

Issued in Kansas City, Missouri, on May 17, 2013.
Earl Lawrence,
Manager, Small Airplane Directorate, Aircraft Certification Service.

[FR Doc. 2013-12308 Filed 5-22-13; 8:45 am]

BILLING CODE 4910-13-P